DEPARTMENT OF AGRICULTURE

Grain Inspection, Packers and Stockyards Administration

[00-1-S]

Designation for the Ohio Valley (IN), Idaho (ID), Lewiston (ID), Utah, and Mississippi Areas

AGENCY: Grain Inspection, Packers and Stockyards Administration (GIPSA).

ACTION: Notice.

SUMMARY: GIPSA announces designation of the following organizations to provide official services under the United States Grain Standards Act, as amended (Act): Ohio Valley Grain Inspection, Inc. (Ohio Valley); Idaho Grain Inspection Service, Inc. (Idaho); Lewiston Grain Inspection Service, Inc. (Lewiston); Utah Department of Agriculture (Utah); and Mississippi Department of Agriculture and Commerce (Mississippi).

EFFECTIVE DATES: November 1, 2000, for Ohio Valley; December 1, 2000, for Idaho, Lewiston, and Utah; and January 1, 2001 for Mississippi.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525.

SUPPLEMENTARY INFORMATION: This action has been reviewed and determined not to be a rule or regulation as defined in Executive Order 12866 and Departmental Regulation 1512-1; therefore, the Executive Order and Departmental Regulation do not apply to this action.

In the March 1, 2000, Federal Register (65 FR 11036), GIPSA asked persons interested in providing official services in the geographic areas assigned to Ohio Valley, Idaho, Lewiston, Utah, and Mississippi to submit an application for designation. Applications were due by March 30, 2000. Each was the sole applicant for designation to provide official services in the entire area currently assigned to them, so GIPSA did not ask for comments on the applicants.

GIPSA evaluated all available information regarding the designation criteria in Section 7(f)(l)(A) of the Act and, according to Section 7(f)(l)(B), determined that each official agency is able to provide official services in the geographic areas, specified in the March 1, 2000, Federal Register, for which they applied. Interested persons may obtain official services by calling the telephone numbers listed below.

Official agency | Designation start | Designation end | Telephone
Ohio Valley | 11/01/2000 | 09/30/2003 | 812-423-9010
Idaho | 12/01/2000 | 09/30/2003 | 208-233-8303
Lewiston | 12/01/2000 | 09/30/2003 | 208-746-0451
Utah | 12/01/2000 | 09/30/2003 | 801-392-2292
Mississippi | 01/01/2001 | 09/30/2003 | 601-947-4095

Authority: Pub. L. 94-582, 90 Stat. 2867, as amended (7 U.S.C. 71 et seq.).

Dated: August 21, 2000.
Neil E. Porter,
Director, Compliance Division.

[FR Doc. 00-22262 Filed 8-31-00; 8:45 am]

BILLING CODE 3410-EN-P